DEPARTMENT OF ENERGY

Federal Energy Regulatory Commission

[Docket No. CP11-56-000]

Texas Eastern Transmission, LP, Algonquin Gas Transmission, LLC; Notice of Availability of the Draft Environmental Impact Statement for the Proposed New Jersey—New York Expansion Project

The staff of the Federal Energy Regulatory Commission (FERC or Commission) has prepared this draft environmental impact statement (EIS) for the New Jersey—New York Expansion Project (NJ-NY Project or Project) proposed by Texas Eastern Transmission, LP (Texas Eastern) and Algonquin Gas Transmission, LLC (Algonquin), both Spectra Energy Corporation natural gas pipeline companies, in the above-referenced docket. Texas Eastern and Algonquin request authorization to expand their natural gas pipeline systems in New Jersey, New York, and Connecticut, to deliver up to 800,000 dekatherms per day of natural gas from multiple receipt points on the Texas Eastern and Algonquin pipeline systems to new delivery points in New Jersey and New York.

The draft EIS assesses the potential environmental effects of the construction and operation of the NJ-NY Project in accordance with the requirements of the National Environmental Policy Act of 1969 (NEPA). The FERC staff concludes that approval of the proposed Project would have some adverse environmental impact; however, these impacts would be reduced to less-than-significant levels with the implementation of Texas Eastern's and Algonquin's proposed mitigation and the additional measures we recommend in the draft EIS.

The U.S. Environmental Protection Agency, U.S. Department of Transportation, U.S. Army Corps of Engineers, New York City Mayor's Office, and New York City Department of Environmental Protection participated as cooperating agencies in the preparation of the draft EIS. Cooperating agencies have jurisdiction by law or special expertise with respect to resources potentially affected by the proposal and participate in the NEPA analysis. While the conclusions and recommendations presented in the draft EIS were developed with input from the cooperating agencies, the agencies will present their own conclusions and recommendations in their respective Records of Decision for the Project.

The draft EIS addresses the potential environmental effects of the construction and operation of the facilities listed below:

Texas Eastern and Algonquin propose to construct and operate:

• Approximately 19.8 miles of new and replacement 42- and 30-inch-diameter pipeline;

• Six new metering and regulating (M&R) stations;

• Abandonment of 8.95 miles of existing pipelines;

• Modification of four existing compressor stations;

• Installation of aboveground over-pressure protection regulation at two existing M&R stations;

• Installation of three pig launchers and two pig receivers, relocation of four pig receivers, and removal of two pig launchers;

• Installation of four mainline and three tap valves along the proposed pipeline facilities; and

• Installation of a block valve and blind flange to accommodate a temporary pig receiver.

The draft EIS has been placed in the public files of the FERC and is available for public viewing on the FERC's Web site at http://www.ferc.gov. A limited number of copies are available for distribution and public inspection at: Federal Energy Regulatory Commission, Public Reference Room, 888 First Street, NE., Room 2A, Washington, DC 20426, (202) 502-8371.

Copies of the draft EIS have been mailed to Federal, State, and local government representatives and agencies; elected officials; environmental and public interest groups; Native American tribes; local newspapers and libraries in the Project area; intervenors to the FERC's proceeding; and potentially affected landowners and other interested individuals and groups. Paper copy versions of this EIS were mailed to those specifically requesting them; all others received a CD version.

Comment Procedures and Public Meetings

Any person wishing to comment on the draft EIS may do so. To ensure consideration of your comments on the proposal in the final EIS, it is important that the Commission receive your comments before October 31, 2011.

For your convenience, there are four methods you can use to submit your comments to the Commission. In all instances, please reference the Project docket number (CP11-56-000) with your submission. The Commission encourages electronic filing of comments and has dedicated eFiling expert staff available to assist you at (202) 502-8258 or efiling@ferc.gov. Please carefully follow these instructions so that your comments are properly recorded.

(1) You may file your comments electronically by using the eComment feature, which is located on the Commission's Web site at http://www.ferc.gov under the link to Documents and Filings. An eComment is an easy method for interested persons to submit brief, text-only comments on a project;

(2) You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing”; or

(3) You may file a paper copy of your comments at the following address: Kimberly D. Bose, Secretary, Federal Energy Regulatory Commission, 888 First Street, NE., Room 1A, Washington, DC 20426.

(4) In addition to or in lieu of sending written or electronic comments, the Commission invites you to attend one of the public comment meetings the staff will conduct in the Project area to receive comments on the draft EIS. Date, time, and location of these meetings will be sent under a different cover. Interested groups and individuals are encouraged to attend and present oral comments on the draft EIS. Transcripts of the meetings will be prepared.

After the comments are reviewed, any significant new issues are investigated, and modifications are made to the draft EIS, a final EIS will be published and distributed. The final EIS will contain the staff's responses to timely comments received on the draft EIS.

Although your comments will be considered by the Commission, simply filing comments will not serve to make the commentor a party to the proceeding. Any person seeking to become a party to the proceeding must file a motion to intervene pursuant to Rule 214 of the Commission's Rules of Practice and Procedures (18 CFR part 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Questions

Additional information about the Project is available from the Commission's Office of External Affairs, at (866) 208-FERC or on the FERC (http://www.ferc.gov) using the eLibrary link. Click on the eLibrary link, click on “General Search,” and enter the docket number excluding the last three digits in the Docket Number field (i.e., CP11-56). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/esubscribenow.htm.

Dated: September 9, 2011.
Kimberly D. Bose,
Secretary.

[FR Doc. 2011-23741 Filed 9-15-11; 8:45 am]

BILLING CODE 6717-01-P